DEPARTMENT OF HEALTH AND HUMAN SERViCES

Health Resources and Services Administration

Agency Information Collection Activities: Proposed Collection: Comment Request

In compliance with the requirement for opportunity for public comment on proposed data collection projects (section 3506 (c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Health Resources and Services Administration (HRSA) Awardee Application and Reporting Tool (AART): (New)

The Awardee Application and Reporting Tool (AART) will be an online system allowing the 62 Awardees participating in the National Bioterrorism Hospital Preparedness Program (NBHPP) to electronically submit a continuing cooperative agreement application (CAA), mid-year progress report on annual activities, a final report on annual activities and progress indicator report to HRSA's Healthcare Systems Bureau, Division of Healthcare Preparedness. The CAA will be a standardized application consisting of 16 Critical Benchmarks (CBM). For each CBM, Awardees will be required to provide a goal, objectives, and a budget outlining how funding provided by HRSA will be spent during the coming year. On the mid-year progress report, Awardees will indicate the progress they have made toward each of the objectives they noted on their CAA. For the final report on annual activities, Awardees will provide additional details on how their objectives were being achieved and how the program monies were spent. On the progress indicator report, Awardees will indicate the progress they have made to date toward achieving the program's CBM. Currently, the submission of the CAA and progress reports is a manual process by which Awardees submit paper-based submissions or electronically transmit text files to HRSA project officers (POs). These files are then reviewed manually and data analysis is difficult. The AART system will provide POs with the ability to review and approve applications, review progress reports, and generate reports online. In addition, the reporting interface will allow HRSA to quickly and efficiently analyze data, identify trends, make timely program decisions, and provide the Department of Health and Human Services (HHS), Congress, or other Agencies with any specific data or metrics requested.

The burden estimate for Awardees to complete and submit a submission is as follows:

Submission type | Number of respondents | Responses per Respondent | Total number of responses | Hours per response | Total burden hours
Cooperative Agreement Application | 62 | 1 | 62 | 120 | 7,440
Mid-year Report | 62 | 1 | 62 | 124 | 7,688
Final Report on Annual Activities | 62 | 1 | 62 | 124 | 7,688
Progress Indicator Report | 62 | 1 | 62 | 124 | 7,688
Total | 62 | 4 | 248 |  | 30,504

Send comments to Susan G. Queen, Ph.D., HRSA Reports Clearance Officer, Room 14-45, Parklawn Building, 5600 Fishers Lane, Rockville, MD 20857. Written comments should be received within 60 days of this notice.

Dated: February 8, 2005.
Steven A. Pelovitz,
Associate Administrator for Administration and Financial Management.

[FR Doc. 05-2820 Filed 2-14-05; 8:45 am]

BILLING CODE 4165-15-P